DEPARTMENT OF HEALTH AND HUMAN SERVICES

Centers for Disease Control and Prevention

[60Day-26-0696; Docket No. CDC-2025-0751]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National HIV Prevention Program Monitoring and Evaluation (NHM&E). NHM&E collects standardized HIV prevention program evaluation data from health departments and community-based organizations (CBOs) who receive federal funds for HIV prevention activities.

DATES: CDC must receive written comments on or before January 20, 2026.

ADDRESSES: You may submit comments, identified by Docket No. CDC-2025-0751 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National HIV Prevention Program Monitoring and Evaluation (NHM&E) (OMB Control No. 0920-0696, Exp. 1/31/2028)—Revision—National Center for HIV/AIDS, Viral Hepatitis, Sexually Transmitted Diseases, and Tuberculosis Prevention (NCHHSTP), Centers for Disease Control and Prevention (CDC).

Background and Brief Description

The CDC requests a Revision of the National HIV Prevention Program Monitoring and Evaluation (NHM&E) information collection, currently approved under OMB Control No. 0920-0696. Approval will allow continued collection of standardized HIV prevention program evaluation data from health departments and community-based organizations (CBOs) who receive federal funds for HIV prevention activities. Health Department grantees have the options to key-enter or upload data to a CDC-provided web-based software application (EvaluationWeb). CBO grantees may only key-enter data to the CDC-provided web-based software application.

The evaluation and reporting process is necessary to ensure that CDC receives standardized, accurate, thorough evaluation data from both Health Department and CBO grantees. For these reasons, CDC developed standardized NHM&E variables through extensive consultation with representatives from health departments, CBOs, and national partners (e.g., The National Alliance of State and Territorial AIDS Directors and Urban Coalition of HIV/AIDS Prevention Services). CDC requires CBOs and Health Departments who receive federal funds for HIV prevention to report nonidentifying, HIV test-level and aggregate level, standardized evaluation data to: (1) accurately determine the extent to which HIV prevention efforts are carried out, what types of agencies are providing services, what resources are allocated to those services, to whom services are being provided, and how these efforts have contributed to a reduction in HIV transmission; (2) improve ease of reporting to better meet these data needs; and (3) be accountable to stakeholders by informing them of HIV prevention activities and use of funds in HIV prevention nationwide.

CDC HIV prevention program grantees will collect, enter or upload, and report agency-identifying information, budget data, intervention information, and client demographics and behavioral risk characteristics with an estimate of 204,498 burden hours, representing no change from the previously approved annualized burden hour estimate. Data collection will include searching existing data sources, gathering and maintaining data, document compilation, review of data, and data entry or upload into the web-based system. The Revision of the currently approved data collection is intended to meet the program monitoring and evaluation needs of CDC HIV prevention goals and objectives and CDC's High Impact Prevention approach (https://www.cdc.gov/hiv/policies/hip/hip.html), and includes the following changes and adjustments: (1) additions and updates to Race and Ethnicity data collection, in alignment with OMB's SPD-15 directives; (2) deletion and modification of variables in alignment with Executive Orders; (3) deletion and modification of PrEP-related variables in alignment with screening and eligibility recommendation changes; (4) inclusion of PEP, Mpox, Syndemics, TB, Hepatitis B, Hepatitis C, Chlamydial, Gonorrhea, and Syphilis testing, treatment, and referral variables; (5) addition of Essential Support Services screening, determination, referral, and provision variables; and (6) addition of new jurisdiction-level aggregate variables.

CDC requests approval for an estimated 204,498 annual burden hours. There are no additional costs to respondents other than their time to participate.

Estimated Annualized Burden Hours
Type of respondent | Form name | Number of respondents | Number of responses per respondent | Average burden per response (in hr) | Total burden (in hr)
Health Departments | Health Department Reporting | 66 | 2 | 1,426.5 | 188,298
Community-based Organizations | Community-based Organization Reporting | 150 | 2 | 54 | 16,200
Total |  |  |  |  | 204,498

Jeffrey M. Zirger,
Lead, Information Collection Review Office, Office of Public Health Ethics and Regulations, Office of Science, Centers for Disease Control and Prevention.

[FR Doc. 2025-20581 Filed 11-20-25; 8:45 am]

BILLING CODE 4163-18-P